DEPARTMENT OF TRANSPORTATION

Transportation Security Administration

Aviation Security Advisory Committee Meeting

AGENCY: Transportation Security Administration (TSA), DOT.

ACTION: Notice of meeting.

SUMMARY: This notice announces a closed meeting of the Aviation Security Advisory Committee (ASAC).

DATES: The meeting will take place on January 22, 2003, from 10 a.m. to 1:30 p.m.

ADDRESSES: The meeting will be held at the Holiday Inn Capitol, 550 C Street, SW., Washington, DC 20024.

FOR FURTHER INFORMATION CONTACT: Dan Mullarkey, Office of Security Regulation and Policy, 400 7th St., SW., Washington, DC 20590, Room 3034, telephone 202-385-1236.

SUPPLEMENTARY INFORMATION: This meeting is announced pursuant to section 10(a)(2) of the Federal Advisory Committee Act (Act) (Pub. L. 92-463; 5 U.S.C. App. 11). In accordance with section 10(d) of the Act, TSA has determined that this meeting will be closed in its entirety to the public in accordance with 5 U.S.C. 552b(c)(3). The matters under discussion constitute sensitive transportation security information that is exempt from disclosure by 49 U.S.C. 40119(b), and include such items as a security briefing, a security technology briefing, and a discussion regarding possible tasks for ASAC. ASAC members will be required to sign a Sensitive Security Information non-disclosure form before attending the meeting.

Members of the public who wish to file a written statement with the ASAC may do so by contacting the person listed under the heading FOR FURTHER INFORMATION CONTACT.

Issued in Washington DC, on January 3, 2003.
Thomas R. Blank,
Associate Under Secretary for Security Regulation and Policy.

[FR Doc. 03-388 Filed 1-8-03; 8:45 am]

BILLING CODE 4910-62-P